DEPARTMENT OF TRANSPORTATION

Pipeline and Hazardous Materials Safety Administration

Office of Hazardous Materials Safety; Actions on Special Permit Applications

AGENCY: Pipeline and Hazardous Materials Safety Administration (PHMSA), DOT.

ACTION: Notice of actions on Special Permit Applications.

SUMMARY: In accordance with the procedures governing the application for, and the processing of, special permits from the Department of Transportation's Hazardous Material Regulations (49 CFR Part 107, Subpart B), notice is hereby given of the actions on special permits applications in (November to January 2012). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on February 02, 2012.
Donald Burger,
Chief, Special Permits and Approvals Branch.

S.P. No. | Applicant | Regulation(s) | Nature of special permit thereof
MODIFICATION SPECIAL PERMIT GRANTED
14447-M | SNF Holding Company Riceboro, GA | 49 CFR 177.834 | To modify the special permit to authorize the addition of Class 3, 8 and Division 6.1 hazardous materials.
14763-M | Weatherford International Forth Worth, TX | 49 CFR 173.302a and 173.301(f) | To modify the special permit to change the minimum elongation from 12% to 10%.
12629-M | TEA Technologies, Inc. Amarillo, TX | 49 CFR 173.34(e) | To modify the special permit to add the retesting of DOT 107A cylinder (tubes) by means of acoustic emission (AE) and ultrasonic examination (UE) in lieu of hydrostatic testing.
14584-M | WavesinSolids LLC State College, PA | 49 CFR 173.302 and 180.209 | To modify the special permit to authorize additional cylinders and to allow cylinders to be charged to 110 percent of the usual settled filled pressure or 110 percent of the stamped service pressure (whichever is greater) and to extend the retest period from 5 years to 10.
9758-M | Coleman Company, Inc. The Wichita, KS | 49 CFR 173.304(d)(3)(ii); 178.33 | To modify the special permit to authorize the transportation in commerce of an additional Division 2.1 material.
14921-M | ERA Helicopters LLC Lake Charles, LA | 49 CFR 173.302(f) | To modify the special permit issued on an emergency basis to a permanent special permit.
12247-M | Weldship Corporation Bethlehem, PA | 49 CFR 172.301, 173.302a(b)(2), (b)(3) and (b)(4); 180.205(c) and (g) and 180.209(a) | To modify the special permit to authorize ultrasonic testing of DOT-SP 9001, 9370, 9421, 9706, 9791, 9909, 10047, 10869, and 11692 cylinders.
14743-M | TIER Environmental Services, Inc. (Former Grantee TIER DE, Inc.) Gap, PA | 49 CFR 173.24b and 173.244 | To modify the special permit to authorize the one-time, one-way transportation in commerce of an additional non-DOT specification metal tank containing approximately 1320 lbs. of sodium by motor vehicle.
11281-M | E.I. du Pont de Nemours & Company Wilmington, DE | 49 CFR 172.101, Column 7, Special Provisions B14, T38 | To modify the special permit to authorize the use of an additional UN portable tank specification.
15132-M | National Aeronautics and Space Administration (NASA) Washington, DC | 49 CFR 173.301 and 178.53 | To modify the special permit to authorize the transportation in commerce of certain Division 2.1 and 2.2 gases in alterative packaging when transported by motor vehicle.
10597-M | Thermo King Corporation Minneapolis, MN | 49 CFR 177.834(1)(2)(i) | To modify the special permit to authorize a new series of heaters containing Class 3 liquids and/or Division 2.1 gases.
13601-M | DS Containers, Inc. Batavia, IL | 49 CFR 173.306(b)(1) | To modify the special permit to authorize an alternative pressure relief device.
14509-M | Pacific Consolidated Industries, LLC Riverside, CA | 49 CFR 173.302(a)(1), 173.304a(a)(1), 175.3 | To modify the special permit to authorize the transportation of cylinders containing oxidizing gases without a rigid outer packaging capable of passing the Flame Penetration and Resistance Test and the Thermal Resistance Test.
14728-M | International Isotopes Inc. Idaho Falls, ID | 49 CFR 173.416(c) | To modify the special permit to authorize an increase in the number of times the packaging can be used.
NEW SPECIAL PERMIT GRANTED
14839-N | Matheson Tri-Gas,Inc. Basking Ridge, NJ | 49 CFR 180.209 | To authorize the transportation in commerce of certain DOT Specification 3A and 3AA cylinders containing Division 2.2 gases that have been tested every 15 years instead of every 10 years. (modes 1, 2, 3, 4, 5)
15257-N | GFS Chemicals Columbus, OH | 49 CFR 173.242(d) and 173.243(d) | To authorize the transportation of perchloric acid, a short distance from one facility to another, in intermediate bulk containers not otherwise authorized. (mode 1)
15274-N | Coastal Helicopters Juneau, AK | 49 CFR 172.101 Column (9B) | To authorize the transportation in commerce certain materials which are forbidden for transportation by air for exceed quantity limitations, to be transported by cargo aircraft within the State of Alaska when other means of transportation are impracticable or not available. (mode 4)
15384-N | TEA Technologies, Inc. Amarillo, TX | 49 CFR 180.509 | To authorize an alternative method of retest for DOT Specification 107A cylinders for use in transporting liquified or nonliquefied compressed gases, or mixtures. (modes 1, 2, 3)
15373-N | Flinn Scientific Inc. Batavia, IL | 49 CFR 173.13(c)(2) | To authorize the manufacture, mark, sale and use of the specially designed combination packagings described herein for transportation in commerce of the materials listed in paragraph 6 without hazard labels or placards, with quantity limits not exceeding 25 grams. (mode 1)
15386-N | MAC, LLC Bay Saint Louis, MS | 49 CFR 173.56 | To authorize the one-time, one-way transportation in commerce of two (2) 5-gallon buckets containing wetted waste primers and three (3) 5-gallon buckets containing wetted waste propellant by a contract carrier for disposal without an EX approval. (mode 1)
15404-N | Proserv UK Ltd. Aberdeen, AB12 | 49 CFR 173.201, 173.302, 173.304, 3BT 178.35(e) and 178.36 | To authorize the manufacture, marking, sale and use of a non-DOT specification seamless titanium pressurized sample cylinder. (modes 1, 2, 3, 4)
15425-N | National Aeronautics & Space Administration (NASA) Washington, DC | 49 CFR 177.848 | To authorize the transportation in commerce of certain hydrazine fuels on the same motor vehicle without regard to segregation requirements. (mode 1)
15427-N | The Proctor & Gamble Company LeGrange, GA | 49 CFR 173.306(a)(3)(v) | To authorize the transportation in commerce of certain aerosols containing a Division 2.2 compressed gas in certain non-refillable aerosol containers which are not subject to the hot water bath test. (modes 1, 2, 3, 4, 5, 6)
15428-N | Space Exploration Technologies Corp. Hawthorne, CA | 49 CFR Part 172 and 173 | To authorize the transportation in commerce of certain hazardous material as part of the Dragon space capsule without requiring shipping papers, marking and labeling. (mode 1)
15461-N | Kidde Products High Bentham, Yo | 49 CFR 171.23 | To authorize the transportation in commerce of non-DOT specification cylinders containing a Division 2.2 compressed gas. (modes 1, 2, 3)
15470-N | Wilson Construction Company Canby, OR | 49 CFR 172.101 Column (9B), 172.204(c)(3), 173.27(b)(2), 175.30(a)(1), and 172.200 | To authorize the transportation in commerce of certain hazardous materials by cargo aircraft including by external load in remote areas of the U.S. without being subject to hazard communication requirements and quantity limitations where no other means of transportation is available. (mode 4)
15468-N | Prism Helicopters Inc. Wasilla, AK | 49 CFR 172.101 Column (9B) | To authorize the transportation in commerce of certain Class 1 explosive materials which are forbidden for transportation by air, to be transported by cargo aircraft within the State of Alaska when other means of transportation are impracticable or not available. (mode 4)
15471-N | National Aeronautics & Space Administration (NASA) Washington, DC | 49 CFR 173.172 | To authorize the transportation in commerce of a Space Shuttle Orbiter Auxiliary Power Unit subsystem fuel propellant tank containing the residue of Hydrazine, anhydrous which does not meet the requirements of 49 CFR 173.172. (mode 1)
15473-N | Eagle Helicopters Inc. dba Kachina Aviation Nampa, ID | 49 CFR 172.101 Column (9B), 172.204(c)(3), 173.27(b)(2), 175.30(a)(1), and 172.200 | To authorize the transportation in commerce of certain hazardous materials by cargo aircraft including by external load in remote areas of the U.S. without being subject to hazard communication requirements and quantity limitations where no other means of transportation is available. (mode 4)
15443-N | Iliamna Air Guides, DBA Soloy Helicopters, LLC Wasilla, AK | 49 CFR 172.101 Column (9B), 172.204(c)(3), 173.27(b)(2), 175.30(a)(1), 172.200, 172.300 and 172.400 | To authorize the transportation in commerce of certain Class 1 hazardous materials by cargo aircraft including by external load in remote areas of the U.S. without being subject to hazard communication requirements and quantity limitations where no other means of transportation is available. (mode 3)
15466-N | The Boeing Company/Boeing Commerical Airplanes Seattle, WA | 49 CFR 173.309 in that the cylinders covered under this special permit are not authorized as fire extinguishers, except as specified herein, and § 172.301(c) in that marking each cylinder with the special permit number is waived | To authorize the transportation in commerce of certain non-DOT specification and DOT-4DA and 4DS specification cylinders, used as fire suppression systems in aircraft to be shipped, as fire extinguishers. (modes 1, 2, 3, 4, 5)
15479-N | Korean Air Lines Co. Ltd. (KAL) Arlington, VA | 49 CFR 172.101 Column (9B) | To authorize the one-time transportation in commerce of certain explosives that are forbidden for transportation by cargo only aircraft. (mode 4)
15493-N | Carleton Technologies dba Cobham Mission Systems Orchard Park, NY | 49 CFR 173.302a | To authorize the manufacture, marking, sale and use of a nonrefillable non-DOT specification cylinder similar to a DOT specification 39 cylinder for use in transporting Division 2.2 non-flammable compressed gas. (modes 1, 2, 4, 5)
15476-N | Swanson Group Aviation, LLC Grants Pass, OR | 49 CFR 172.101 Column (9B), 172.204(c)(3), 173.27(b)(2), 175.30(a)(1), and 172.200 | To authorize the transportation in commerce of certain hazardous materials by external load on cargo aircraft in remote areas of the U.S. without being subject to hazard communication requirements and quantity limitations where no other means of transportation is available. (mode 4)
EMERGENCY SPECIAL PERMIT GRANTED
11077-M | U.S. Department of Defense Scott AFB, IL | 49 CFR 173.226(b); 173.227(b) | To modify the special permit by removing one Division 6.1 hazardous materials and adding an additional Division 6.1 hazardous material. (mode 1)
15326-M | Chemtura Corporation Middlebury, CT | 49 CFR 178.337-8(a)(3) | To modify the special permit to extend the expiration date three months to allow time to modify the special permit from emergency to permanent. (mode 1)
15243-N | Katmai Air, LLC Anchorage, AK | 49 CFR 175.310(c) | Authorizes the carriage of gasoline in non-DOT specification polyethylene containers overpacked in plywood boxes in small, passenger-carrying aircraft within the State of Alaska to meet the needs of a passenger. (modes 4, 5)
15448-N | U.S. Department of Defense Scott AFB, IL | 49 CFR 172.320, 173.51, 173.56, 173.57 and 173.58 | To authorize the transportation in commerce of certain Class 1 materials under an Interim Hazard Classification. (modes 1, 2, 3, 4, 5)
15505-N | Boasso America Corp. Chalmette, LA | 49 CFR 173.32(f)(5) | To authorize the transportation in commerce of a portable tank that is not filled to 80% capacity for a short distance by motor vehicle so that the portable tank can be topped off. (mode 1)
15531-N | National Aeronautics and Space Administration (NASA) Washington, DC | 49 CFR 173.302(a) | This request seeks relief from the requirement for the IV-TEPC Detectors to be DOT specification cylinders. The Detectors contain less than 0.04 grams of propane gas. Design details are provided to justify that the Detectors are constructed and packaged robustly, with multiple containment barriers. These Detectors have been deemed safe by NASA to fly onboard manned spacecraft. (modes 1, 2, 3, 4, 5, 6)
MODIFICATION SPECIAL PERMIT WITHDRAWN
13736-M | ConocoPhillips Anchorage, AK | 49 CFR 172.101 Table, Col. (9B) | To modify the special permit to authorize an increase in the capacity from 350 to 4500 U.S. gallons for bulk containers.
EMERGENCY SPECIAL PERMIT WITHDRAWN
14929-N | Alaska Island Air, Inc. Togiak, AK | 49 CFR 173.302(f) | To authorize the transportation in commerce of cylinders of compressed oxygen without rigid outer packaging within the State of Alaska when no other means of transportation exist. (mode 4)
15495-N | Dow Corning Corp Midland, MI | 49 CFR 180.407 | To authorize the transportation in commerce of a MC331 cargo tank motor vehicle containing hydrogen chloride, refrigerated liquid that is past its test date. (mode 1)
DENIED
12412-M | Request by FMC Corporation Tonawanda, NY December 07, 2011. To modify the special permit to allow hoses to remain attached to discharge outlets while in transportation.
14813-N | Request by Organ Recovery Systems Des Plaines, IL January 30, 2012. To authorize the transportation of the LifePort Kidney Transporter by air without being accompanied by a person qualified to operate it.
15266-N | Request by 3AL Testing Corp. Denver, CO November 16, 2011. To authorize the transportation in commerce of certain DOT 3AL 6061-T6 cylinders used exclusively in medical oxygen service to be requalified every 10 years rather than every 5 years.
15405-N | Request by Giant Resource Recovery—Attalla, Inc. Attalla, AL November 30, 2011. To authorize the one-time transportation in commerce of aerosols in alternative packaging for the purposes of testing.
15429-N | Request by Demex International Inc. Picayune, MS January 12, 2012. To authorize the transportation in commerce of certain explosives by vessel in an alternative stowage configuration.
15464-N | Request by Alliant Techsystems Operations LLC. Eden Prairie, MN January 20, 2012. To authorize the transportation in commerce of ammunition and components that have been combined with non-hazardous materials and are being transported as hazardous waste without a new EX classification.
14741-M | Weatherford International Fort Worth, TX | 49 CFR 173.304 | To modify the special permit to authorize rail freight as an additional mode of transportation.

[FR Doc. 2012-2897 Filed 2-15-12; 8:45 am]

BILLING CODE 4909-60-M